DEPARTMENT OF THE INTERIOR

Bureau of Land Management

[LLNV912000 L10100000.PH0000 LXSS0006F0000; 13-08807; MO#4500046713; TAS: 14X1109]

Notice of Public Meeting: Resource Advisory Councils, NV

AGENCY: Bureau of Land Management, Interior.

ACTION: Notice of public meeting.

SUMMARY: In accordance with the Federal Land Policy and Management Act and the Federal Advisory Committee Act of 1972 (FACA), the Department of the Interior, Bureau of Land Management (BLM) Nevada will hold a joint meeting of its three Resource Advisory Councils (RACs), the Sierra Front-Northwestern Great Basin RAC, the Northeastern Great Basin RAC, and the Mojave-Southern Great Basin RAC in Las Vegas, Nevada. The meeting is open to the public and a public comment period will be available.

Dates and Times: The three RACs will meet on Thursday, January 31, 2013, from 8 a.m. to 4:30 p.m. and Friday, February 1, 2013, from 7:00 a.m. to 1:00 p.m. A public comment period will be held in the morning on Friday, February 1. The specific time for public comment will be included in the agenda, which will be available two weeks prior to the meetings at www.blm.gov/nv.

FOR FURTHER INFORMATION CONTACT: Chris Rose, telephone: (775) 861-6480, email: crose@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The three 15-member Nevada RACs advise the Secretary of the Interior, through the BLM Nevada State Director, on a variety of planning and management issues associated with public land management in Nevada. The meeting will be held at John Ascuaga's Nugget, 1100 Nugget Avenue, Sparks, Nevada. Agenda topics include a presentation and discussion of accomplishments during 2012; closeout reports of the three RACs; the year ahead for the BLM in Nevada; breakout meetings of the three RACs; discussion of subgroups; and scheduling meetings of the individual RACs for the upcoming year. The public may provide written comments to the three RAC groups or to an individual RAC. Individuals who plan to attend and need further information about the meeting or need special assistance such as sign language interpretation or other reasonable accommodations may contact Chris Rose at the phone number or email address above.

Erica Haspiel-Szlosek,
Chief, Office of Communications.

[FR Doc. 2012-30667 Filed 12-19-12; 8:45 am]

BILLING CODE 4310-HC-P